CHEMICAL SAFETY AND HAZARD INVESTIGATION BOARD

Sunshine Act Meetings

FEDERAL REGISTER CITATION OF PREVIOUS ANNOUNCEMENT: (87 FR 23164), April 19, 2022, FR Doc. 2022-08473.

PREVIOUSLY ANNOUNCED TIME AND DATE OF THE MEETING: May 5, 2022, 1:00 p.m. EDT (4 hours) on Zoom.

CHANGES IN THE MEETING: The Chemical Safety Board (CSB) unanimously voted on May 3, 2022, to cancel the meeting on the Loy-Lange Box Company Investigation Report previously scheduled for May 5, 2022.

CONTACT PERSON FOR MORE INFORMATION: Hillary Cohen, Communications Manager, at public@csb.gov or (202) 446-8094. Further information about this public meeting can be found on the CSB website at: www.csb.gov.

Dated: May 4, 2022.
Tamara Qureshi,
Assistant General Counsel, Chemical Safety and Hazard Investigation Board.

[FR Doc. 2022-09897 Filed 5-4-22; 4:15 pm]

BILLING CODE 6350-01-P